ENVIRONMENTAL PROTECTION AGENCY

40 CFR Part 63

[EPA-HQ-OAR-2018-0746; FRL-10002-18-OAR]

RIN 2060-AT85

National Emission Standards for Hazardous Air Pollutants: Miscellaneous Organic Chemical Manufacturing Residual Risk and Technology Review

AGENCY: Environmental Protection Agency (EPA).

ACTION: Proposed action; notification of public hearings and extension of comment period.

SUMMARY: On December 17, 2019, the U.S. Environmental Protection Agency (EPA) published the proposed rulemaking concerning the residual risk and technology review (RTR) for the National Emission Standards for Hazardous Air Pollutants (NESHAP) for the Miscellaneous Organic Chemical Manufacturing source category. The EPA also requested public comment on the proposed action. The EPA is announcing that it will hold two public hearings to provide interested parties the opportunity to present data, views, or arguments concerning the proposed action.

DATES:

Comments: The comment period for the proposed rule published December 17, 2019, is extended. The EPA must receive comments on this proposed action no later than February 18, 2020.

Public hearings: The EPA will hold one public hearing on January 14, 2020, in Houston, Texas, and a second public hearing on January 16, 2020, in Washington, DC. The EPA will begin pre-registering speakers for the hearings on December 17, 2019. The last day to pre-register to speak at either hearing will be January 9, 2020, at 5:00 p.m. (ET). The EPA will not provide audiovisual equipment for presentations. Any media presentations should be submitted to the public docket at https://www.regulations.gov/, identified by Docket ID No. EPA-HQ-OAR-2018-0746. If you require the service of a translator such as audio description, please pre-register for the hearings and describe your needs by January 9, 2020. We may not be able to arrange accommodations without advanced notice. Please refer to the SUPPLEMENTARY INFORMATION section for additional information on the public hearings.

ADDRESSES: The hearing in Houston, Texas, will be held in the Harris County Commissioners Courtroom, 1001 Preston Street, Suite 934, Houston, Texas. The hearing will convene at 9:00 a.m. (local time) and will conclude at 5:00 p.m. Lunch breaks will be scheduled as time will allow depending on the number of registered speakers.

The hearing in Washington, DC, will be held in the William Jefferson Clinton East Building (WJC East), 1201 Constitution Avenue NW, Room 1117, Washington, DC 20004. The hearing will convene at 9:00 a.m. (local time) and will conclude at 5:00 p.m. Lunch breaks will be scheduled as time will allow depending on the number of registered speakers.

The EPA's website for this rulemaking, which includes the proposal and information about the hearing, can be found at: https://www.epa.gov/stationary-sources-air-pollution/miscellaneous-organic-chemical-manufacturing-national-emission. Written comments on the proposed rule may be submitted to the EPA electronically, by mail, facsimile, or through hand delivery/courier. Please refer to the proposal for the addresses and detailed instructions.

FOR FURTHER INFORMATION CONTACT: To register to speak at the hearings, please use the online registration form available at https://www.epa.gov/stationary-sources-air-pollution/miscellaneous-organic-chemical-manufacturing-national-emission or contact Ms. Virginia Hunt at (919) 541-0832 or at hunt.virginia@epa.gov.

SUPPLEMENTARY INFORMATION: Because both of these hearings are being held at government facilities, individuals planning to attend the hearings should be prepared to show valid picture identification to the security staff to gain access to the meeting room. Please note that the REAL ID Act, passed by Congress in 2005, established new requirements for entering federal facilities. For purposes of the REAL ID Act, the EPA will accept government-issued IDs, including driver's licenses, from the District of Columbia and all states and territories except from American Samoa. If your identification is issued by American Samoa, you must present an additional form of identification to enter the federal building where the public hearing will be held. Acceptable alternative forms of identification include: Federal employee badges, passports, enhanced driver's licenses, and military identification cards. For additional information on the status of your state regarding REAL ID, go to: https://www.dhs.gov/real-id. Any objects brought into the building need to fit through the security screening system, such as a purse, laptop bag, or small backpack. The EPA will not allow demonstrations during the public hearing.

On January 13, 2020, the EPA will post general agendas for the hearings that will list pre-registered speakers in approximate order at https://www.epa.gov/stationary-sources-air-pollution/miscellaneous-organic-chemical-manufacturing-national-emission. The EPA will make every effort to follow the schedules as closely as possible on the day of each hearing; however, please plan for the hearings to run either ahead of schedule or behind schedule. Additionally, requests to speak will be taken the day of each hearing at the hearing registration desk. The EPA will make every effort to accommodate all speakers who arrive and register, although preferences on speaking times may not be able to be fulfilled.

Each commenter will have 5 minutes to provide oral testimony. The EPA encourages commenters to provide the EPA with a copy of their oral testimony electronically or in hard copy form. Please refer to the ADDRESSES section for additional information on how to provide written comments on the proposed rule.

The EPA may ask clarifying questions during the oral presentations, but will not respond to the presentations at that time. Written statements and supporting information submitted during the comment period will be considered with the same weight as oral comments and supporting information presented at the public hearings. Verbatim transcripts of the hearings and written statements will be included in the docket for the rulemaking.

Please note that any updates made to any aspect of the hearings will be posted online at https://www.epa.gov/stationary-sources-air-pollution/miscellaneous-organic-chemical-manufacturing-national-emission. While the EPA expects the hearings to go forward as set forth above, please monitor our website or contact Ms.Virginia Hunt at (919) 541-0832 or hunt.virginia@epa.gov to determine if there are any updates. The EPA does not intend to publish a document in the Federal Register announcing updates.

Dated: December 12, 2019.
Panagiotis Tsirigotis,
Director, Office of Air Quality Planning and Standards.

[FR Doc. 2019-27154 Filed 12-16-19; 8:45 am]

BILLING CODE 6560-50-P